DEPARTMENT OF HEALTH AND HUMAN SERVICES

Agency for Toxic Substances and Disease Registry

[ATSDR-165]

Availability of Chemical Specific Consultation for Tremolite-Related Asbestos

AGENCY: Agency for Toxic Substances and Disease Registry (ATSDR), Department of Health and Human Services (HHS).

ACTION: Notice of availability.

SUMMARY: The Comprehensive Environmental Response, Compensation, and Liability Act of 1980 (CERCLA), as amended by the Superfund Amendments and Reauthorization Act of 1986 (SARA), Section 104(i)(4) [42 U.S.C. 9604(i)(4)], directs the Administrator of ATSDR to provide consultations upon request on health issues relating to exposure to hazardous or toxic substances to the Administrator of EPA, State officials, and local officials. A health consultation provides advice on a specific public health issue related to real or possible human exposure to toxic material and is a method ATSDR uses to respond rapidly to requests for assistance and public health needs.

This notice announces that a chemical-specific public health consultation, Tremolite-related Asbestos, is now available for public comment. This ATSDR consultation reviews the scientific literature describing the relationship between exposure to tremolite-related asbestos and resultant health effects.

DATES: In order to be considered, comments on this draft consultation must be received by March 9, 2001. Comments received after the close of the public comment period will be considered at the discretion of ATSDR based upon what is deemed to be in the best interest of the general public.

ADDRESSES: Requests for copies of the draft consultation should be sent to the ATSDR Information Center, Division of Toxicology, Agency for Toxic Substances and Disease Registry, Mailstop E-57, 1600 Clifton Road, NE., Atlanta, Georgia 30333. Written comments regarding the draft consultation should be sent to the same address. ATSDR reserves the right to provide only one copy of the draft consultation free of charge.

Written comments submitted in response to this notice should bear the docket control number ATSDR-165. Because all public comments regarding ATSDR-165 health consultations will be available for inspection, no confidential business information or personal medical information should be submitted in response to this notice.

FOR FURTHER INFORMATION CONTACT: Susan L. Kess, MD, MPH, Division of Toxicology, Agency for Toxic Substances and Disease Registry, Mailstop E-29, 1600 Clifton Road, NE, Atlanta, Georgia 30333, telephone (404) 639-6300.

SUPPLEMENTARY INFORMATION: Given the uniqueness of tremolite and related asbestos and the paucity of information about them, ATSDR prepared this substance-specific consultation to support technical decision-making for public health activities at Libby, Montana where the vermiculite ore was mined, and at other sites across the country where the contaminated vermiculite was mined, distributed, and processed.

Workers, household contacts, and the general public who come in contact with contaminated products may be at risk of exposure and potential health effects.

Dated: January 16, 2001.
Georgi Jones,
Director, Office of Policy and External Affairs, Agency for Toxic Substances and Disease Registry.

[FR Doc. 01-1889 Filed 1-22-01; 8:45 am]

BILLING CODE 4163-70-P